DEPARTMENT OF AGRICULTURE

Forest Service

Motorized Travel Management Plan, Tonto National Forest; Gila, Maricopa, Pinal, and Counties, AZ

AGENCY: Forest Service, USDA.

ACTION: Notice of intent to prepare an environmental impact statement.

SUMMARY: The Tonto National Forest will prepare an environmental impact statement (EIS) to disclose the effects of designating a system of roads, trails, and areas for motorized vehicle use, thereby developing a motorized travel management plan. Such a plan is needed to meet National travel management regulations and to improve the management and enforcement of motor vehicle use on National Forest Service lands. This notice describes the components to be included in the motorized travel plan, proposed forest plan amendment, decisions to be made, estimated dates pertaining to the project, information concerning public participation, and the responsible agency official. The project area is defined by the boundaries of the Tonto National Forest, and includes the Cave Creek, Globe, Mesa, Payson, Pleasant Valley, and Tonto Basin ranger districts.

DATES: Written comments to be considered in the preparation of the draft environmental impact statement (DEIS) should be submitted on or before March 4, 2013. The DEIS is expected to be published in June 2013. The final environmental impact statement (FEIS) and record of decision (ROD) is expected to be available by November 2013.

ADDRESSES: Send written comments to Neil Bosworth, Forest Supervisor, ATTN: Travel Management, 2324 E. McDowell Rd., Phoenix, AZ 85006. Comments may also be sent via email to comments-southwestern-TMRTonto@fs.fed.us, or via facsimile (602) 225-5295.

FOR FURTHER INFORMATION CONTACT: Anne Thomas, Tonto National Forest NEPA Coordinator, 2324 E. McDowell Rd., Phoenix, AZ 85006, (602) 225-5213.

Individuals who use telecommunication devices for the deaf (TDD) may call the Federal Information Relay Service (FIRS) at 1-800-877-8339 between 8 a.m. and 8 p.m., Eastern Time, Monday through Friday.

SUPPLEMENTARY INFORMATION: On November 9, 2005, the Forest Service published final travel management regulations governing off-highway vehicles (OHV) and other motor vehicles on national forests and grasslands. The regulations amended part 212, subpart B of part 251, subpart A of part 261, and removed part 295 of title 36 of the Code of Federal Regulations (CFR). These three regulations are referred to together as the Travel Management Rule. This rule was developed in response to the substantial increase in use of OHVs on National Forest System lands and related damage to forest resources caused by unmanaged OHV use over the past 30 years. The regulations implement Executive Orders (EO) 11644 and EO 11989 regarding off-road use of motor vehicles on Federal lands.

The regulations provide “for a system of National Forest System (NFS) roads, NFS trails, and areas of NFS lands that are designated for motor vehicle use. Motor vehicle use off designated roads and trails and outside of designated areas is prohibited” (36 CFR 212.50). Designated routes and areas shall be identified on a motor vehicle use map (MVUM) and made available to the public. Currently, motor vehicles may drive on any open road on the Tonto National Forest. The Tonto National Forest does not currently manage trails for motorized use. In the 1985 Tonto National Forest Plan, approximately 700,004 acres were identified as open to cross-country travel in the Payson and Pleasant Valley ranger districts. In addition, the 1985 Tonto National Forest Plan identified over 2,170,000 acres closed to cross-country OHV travel in the Cave Creek, Mesa, Globe, and Tonto Basin ranger districts.

In order to comply with the travel management regulations, the Tonto National Forest participated in a forestwide travel analysis process beginning in 2007 that was facilitated by a contractor. The intent of this process was to help the forest determine the minimum transportation system necessary to provide safe and efficient travel and for administration, utilization, and protection of NFS lands (36 CFR 212.5(b)). Based on internal scoping, the Forest Supervisor determined that the Tonto National Forest would prepare an Environmental Assessment (EA) to complete the analysis required to comply with the Travel Management Rule. In October 2009, the forest released a proposed action. Seven public meetings were held throughout the communities within and proximate in November and December 2009 to gather public comments about the proposed action, including roads and trails proposed for motorized use. Comments to the proposed action were accepted through December 4, 2009. A draft version of the EA was released for public comment on January 6, 2012, for a 30-day comment period. Due to the length and complexity of the Environmental Assessment and requests from the public, an additional 30-day comment period began on February 5, 2012. Approximately 300 letters were received during these two comment periods.

After initiating compliance with the Travel Management Rule under an EA, the Tonto National Forest determined that the level of significance reached a point that environmental analysis for travel management under an Environmental Impact Statement (EIS) would be more appropriate. All comments provided throughout the process thus far, including those to the 2009 proposed action, the 2012 Environmental Assessment, and public meetings, will continue to be considered and may be incorporated into either the proposed action for the EIS or alternatives to that proposed action.

Purpose and Need for Action

The purpose of this project is to comply with the Travel Management Rule by providing a system of roads, trails, and areas designated for motor vehicle use by class of vehicle and time of year on the Tonto National Forest. There is a need to determine which, if any, authorized National Forest System (NFS) roads currently open should be closed to motorized travel. In addition, there is a need to determine which, if any, authorized roads currently closed should be open to motorized travel. There is also a need identify any restrictions on allowed uses, classes of vehicles, and/or seasons of use for specific routes. There is also a need to determine which, if any, unauthorized routes should be added to NFS as trails and roads open for motorized access. In addition, there is a need to determine if, when, where, and how far motor vehicles may be driven off designated roads for the sole purpose of motorized dispersed camping or big game retrieval. And finally, there is a need to amend 1985 Tonto National Forest Plan to prohibit motor vehicle use off designated NFS roads, trails, and areas on two ranger districts (Payson and Pleasant Valley) except as shown on the Motor Vehicle Use Map (MVUM) and to revise wording for consistency regarding definition to comply with Travel Management Rule, 36 CFR 261.13.

Proposed Action

For the purposes of this project and notice, the term “road” or “trail” is defined as a National Forest System (NFS) road or trail that is designated for motor vehicle use pursuant to 36 CFR 212.51. An “unauthorized road or trail” is not a forest road or trail or a temporary road or trail and that is not included in a forest transportation atlas. Unauthorized routes have generally developed without agency authorization, environmental analysis, or public involvement and do not have the same status as NFS roads or trails included in the forest transportation system. To meet the purpose and need of the project, the actions listed below are proposed. The proposed action has been modified based on comments received from the 2009 scoping period through the 2012 Environmental Assessment comment period.

Roads proposed open to motor vehicles: Approximately 2,567 miles of roads would be open to high clearance vehicles and approximately 967 miles would be open to passenger vehicles. Approximately 1,187 miles of roads would be designated for Administrative Use, restricting use to federal employees and permitted uses. Approximately 842 miles of existing roads would be closed. In this case, close means it would be closed to public travel. Some of these roads would be retained for periodic administrative use only (maintenance Level 1) and others will be decommissioned (removed from the forest inventory). The most relevant aspect of this action is closing the road to public travel. Decisions to obliterate decommissioned roads are outside the scope of this project, because they require further site-specific environmental analysis before being undertaken. Approximately 280 miles of user-created routes would be added to the forest transportation system. These routes would be managed as roads and will be open to public travel.

Trails proposed open to motor vehicles: Approximately 251 miles would be open to off-highway vehicle (OHV) travel only.

Areas proposed open for cross-country motorized travel: Four areas within the Tonto National Forest would be designated permitting cross-country motorized travel: Golf Course OHV Area within the Globe Ranger District (approximately 17 acres); Sycamore OHV Area within the Mesa Ranger District (approximately 1,391 acres); Sycamore Tot Lot OHV Area, intended for youth users, within the Mesa Ranger District (approximately 3 acres); and The Rolls Tot Lot, also intended for youth users, within the Mesa Ranger District (approximately 6 acres).

This proposed action would result in approximately 3,812 miles of designated NFS roads and trails and 1,417 acres of designated areas open to motor vehicles on the Tonto National Forest.

Motorized big game retrieval: Motorized retrieval of big game, elk and bear only, would be limited to one mile off either side of NFS roads to retrieve a downed elk or bear by an individual who has legally taken the animal. This would occur on all open roads in Arizona Game Management Units 21, 22, 23, 24A, and 24B, but would not extend into wilderness areas or inventoried roadless areas. Unit 22 includes approximately 920 acres of the Coconino National Forest. The decision for motorized big game retrieval for these 920 acres of Unit 22 will be under the authority of the Tonto National Forest decision maker.

Dispersed camping: Motorized travel for the purpose of dispersed camping would not be allowed off designated roads and trails. Vehicles would be allowed to park one vehicle length, or up to 30 feet, from the edge of the designated road or trail.

OHV permit zones: Four permit zones would be designated within the forest: Bulldog Canyon Permit Zone within the Mesa Ranger District; St. Claire Permit Zone within the Cave Creek Ranger District; Sycamore Permit Zone within the Mesa Ranger District, and The Rolls Permit Zone within the Mesa Ranger District. Within a permit zone, vehicles would be required to stay on designated roads and trails. Motorized users would be required to obtain a permit and a gate combination code from the designated Tonto National Forest office before accessing these zones.

The proposed action would amend the Forest Plan to prohibit motor vehicle use off designated NFS roads, trails, and areas on two ranger districts (Payson and Pleasant Valley), except as shown on the Motor Vehicle Use Map (MVUM) and to revise wording in order to be consistent with the language and intent in 36 CFR 212.

Possible Alternatives

In addition to the Proposed Action, the No Action alternative will be analyzed. The Forest Service is required to analyze the “No Action” alternative under the provisions of NEPA (40 CFR 1502.14). Since the original scoping for this project in 2009, several concerns and issues were raised concerning travel management on the Tonto National Forest. These included the need to increase motorized travel opportunities on designated roads, trails and areas, provided greater protection for natural resources by decreasing the amount of roads, trails, and areas, and provide greater motorized access to dispersed camping sites and retrieval of big game. These issues, along with issues raised during the scoping period for the EIS, will be used to develop alternatives to the proposed action.

Responsible Official

The responsible official for this project is the Tonto National Forest Supervisor.

Nature of Decision To Be Made

Elements in this decision include: Changes to the existing road system; changes to existing motorized trails and areas open to cross-country motorized travel; the distance motor vehicles may travel off specific designated routes for the purpose of dispersed camping and big game retrieval; and language and content changes to the Tonto Forest Plan via a forest plan amendment. The decision will be based on a consideration of the environmental effects of implementing the proposed action or alternatives developed in response to significant issues. The Forest Supervisor may select the proposed action, an alternative analyzed in detail, or a modified proposed action or alternative within the project's range of alternatives.

Scoping Process

Scoping is an ongoing procedure used to identify important issues and determine the extent of analysis necessary for an informed decision on a proposed action. This Notice of Intent serves as formal initiation of the scoping process. The Forest Service is seeking comments from individuals, organizations, and local, state, and Federal agencies that may be interested in or affected by the proposed action. Comments may pertain to the nature and scope of the environmental, social, and economic issues, and possible alternatives related to the development of the motorized travel plan and EIS. When submitting comments, please keep them specific to this proposal only. Comments which are not specific to the project and project area will be deemed outside the scope of the analysis and will not be considered. If you provide recommendations for changes to routes or areas, please include route numbers or location descriptions, as well as the reasons for your recommendations. If you are including references, citations, or additional information to be considered for this project, please specify exactly how the material relates to the project. Also indicate exactly what part of the material you would like us to consider (such as page or figure number).

A copy of the proposed action has been made available electronically on the Tonto National Forest's Web site. For those wishing to receive a copy of the proposed action or would like to have their names added to the project mailing list, please submitted a request to: Anne Thomas, Tonto National Forest NEPA Coordinator, 2324 E. McDowell Rd, Phoenix, AZ, 85006, (602) 225-5213, comments-southwestern-TMRTonto@fs.fed.us

Comment Requested

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: January 24, 2013.
Neil J. Bosworth,
Forest Supervisor.

[FR Doc. 2013-02199 Filed 1-31-13; 8:45 am]

BILLING CODE 3410-11-P